DEPARTMENT OF COMMERCE

National Oceanic and Atmospheric Administration

Science Advisory Board (SAB)

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

DATES: Time and Date: The meeting will be held Wednesday, November 14, 2012 from 9:15 a.m. to 5:00 p.m. and Thursday, November 15, 2012 from 8:00 a.m. to 2:30 p.m. These times and the agenda topics described below are subject to change. Please refer to the web page http://www.sab.noaa.gov/Meetings/meetings.html for the most up-to-date meeting agenda.

ADDRESSES: Place: The meeting will be held at the Hilton Doubletree Hotel, 8727 Colesville Road, Silver Spring, Maryland 20910. Please check the SAB Web site http://www.sab.noaa.gov/Meetings/meetings.html for directions to the meeting location.

Status: The meeting will be open to public participation with a 15-minute public comment period on November 14 at 4:45 p.m. (check Web site to confirm time). The SAB expects that public statements presented at its meetings will not be repetitive of previously submitted verbal or written statements. In general, each individual or group making a verbal presentation will be limited to a total time of five (5) minutes. Individuals or groups planning to make a verbal presentation should contact the SAB Executive Director by November 7, 2012 to schedule their presentation. Written comments should be received in the SAB Executive Director's Office by November 7, 2012 to provide sufficient time for SAB review. Written comments received by the SAB Executive Director after November 7, 2012 will be distributed to the SAB, but may not be reviewed prior to the meeting date. Seating at the meeting will be available on a first-come, first-served basis.

Special Accommodations: These meetings are physically accessible to people with disabilities. Requests for special accommodations may be directed no later than 12 p.m. on November 7, 2012, to Dr. Cynthia Decker, SAB Executive Director, SSMC3, Room 11230, 1315 East-West Hwy., Silver Spring, MD 20910.

Matters To Be Considered: The meeting will include the following topics: (1) Review Report on the Cooperative Institute for North Atlantic Research (CINAR); (2) Preliminary Recommendations from the SAB R&D Portfolio Review Task Force; (3) Report from the Ecosystem Sciences and Management Working Group on Ecosystem-Based Fisheries Management; (4) Final Report from the SAB Satellite Task Force (pending review of public comments); (5) Final Report of the Review of the Ocean Exploration Program by the Ocean Exploration Advisory Working Group; (6) Review of the Terms of Reference for the Environmental Information Services Working Group; (7) NOAA Response to the SAB Report from the Climate Partnership Task Force and NOAA Response to the SAB White Paper “Towards Open Weather and Climate Services”; (8) Sea Grant Advisory Board Annual Report to Congress; (9) Presentation on the National Research Council Report “Weather Services for the Nation: Becoming Second to None”; (10) Presentation on “The Scientific Challenge on Predicting the Initiation and Morphology of Thunderstorms for Aviation Weather Forecasts; and (11) Updates from SAB Working Groups.

FOR FURTHER INFORMATION CONTACT: Dr. Cynthia Decker, Executive Director, Science Advisory Board, NOAA, Rm. 11230, 1315 East-West Highway, Silver Spring, Maryland 20910. (Phone: 301-734-1156, Fax: 301-713-1459. Email: Cynthia.Decker@noaa.gov; or visit the NOAA SAB Web site at http://www.sab.noaa.gov.

Dated: October 19, 2012.
Andy Baldus,
Acting Chief Financial Officer/Chief Administrative Officer, Office of Oceanic and Atmospheric Research, National Oceanic and Atmospheric Administration.

[FR Doc. 2012-26249 Filed 10-24-12; 8:45 am]

BILLING CODE 3510-KD-P